FEDERAL RESERVE SYSTEM

12 CFR Parts 225 and 238

[Regulations Y and LL; Docket No. R-1662]

RIN 7100-AF 49

Control and Divestiture Proceedings

Correction

In rule document 2020-03398, appearing on pages 12398 through 12430 in the issue of Monday, March 2, 2020 make the following correction.

§ 238.2 [Corrected]

On page 12426, in the first column, in Subpart A, in instruction 6, on the second line, “(e), (r)(2), and (tt)” should read “(e) and (r)(2) and adding paragraph (tt)”.

[FR Doc. C1-2020-03398 Filed 3-13-20; 8:45 am]

BILLING CODE 1300-01-D